DEPARTMENT OF DEFENSE

GENERAL SERVICES ADMINISTRATION

NATIONAL AERONAUTICS AND SPACE ADMINISTRATION

[OMB Control No. 9000-0047; Docket No. 2017-0053; Sequence 15]

Submission for OMB Review; Place of Performance

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a currently approved information collection requirement concerning place of performance.

DATES: Submit comments on or before February 20, 2018.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB Control number 9000-0047. Select the link “Comment Now” that corresponds with “Information Collection 9000-0047, Place of Performance”. Follow the instructions provided on the screen. Please include your name, company name (if any), and “Information Collection 9000-0047 Place of Performance” on your attached document.

• Mail: General Services Administration, Regulatory Secretariat Division (MVCB) 1800 F Street NW, Washington, DC 20405. ATTN: Ms. Mandell/IC 9000-0047, Place of Performance.

Instructions: Please submit comments only and cite Information Collection 9000-0047 Place of Performance, in all correspondence related to this collection. All comments received will be posted without change to http://www.regulations.gov, including any personal and/or business confidential information provided.

FOR FURTHER INFORMATION CONTACT: Mr. Michael O. Jackson, Procurement Analyst, Acquisition Policy Division at 202-208-4949 or email michaelo.jackson@gsa.gov.

A. Purpose

The information relative to the place of performance and owner of plant or facility, if other than the prospective contractor, is a basic requirement when contracting for supplies or services (including construction). A prospective contractor must affirmatively demonstrate its responsibility. Hence, the Government must be apprised of this information prior to award. The contracting officer must know the place of performance and the owner of the plant or facility to (1) determine bidder responsibility; (2) determine price reasonableness; (3) conduct plant or source inspections; and (4) determine whether the prospective contractor is a manufacturer or a regular dealer.

The information is used to determine the prospective contractor's eligibility for awards and to assure proper preparation of the contract. Prospective contractors are only required to submit place of performance information on an exceptional basis; that is, whenever the place of performance for a specific solicitation is different from the address of the prospective contractor as indicated in the proposal. A notice was published in the Federal Register at 82 FR 51257 on November 3, 2017. No comments were received.

B. Annual Reporting Burden

Time required to read, prepare, and record information is estimated at 2.73 minutes per completion. The Federal Procurement Data System (FPDS) shows that for fiscal year 2016, there were 1,960,218 solicitations that would have contained the two provisions (including contracts and orders, excluding modifications) for manufacturing in the United States. The 1,960,218 actions will be used as the new basis for total annual responses.

Respondents: 16,754.

Responses per Respondent: 117.

Total Responses: 1,960,218.

Hours per Response: .0455.

Total Burden Hours: 89,190.

Affected Public: Businesses or other for-profit and not-for-profit.

Respondent's Obligation: Required to obtain or retain benefits.

Type of Request: Revision of a currently approved collection.

Reporting Frequency: On occasion.

Obtaining Copies of Proposals: Requesters may obtain a copy of the information collection documents from the General Services Administration, Regulatory Secretariat Division (MVCB), 1800 F Street NW, Washington, DC 20405, telephone 202-501-4755. Please cite OMB Control No. 9000-0047, Place of Performance, in all correspondence.

Dated: January 12, 2018.
Lorin S. Curit,
Director, Federal Acquisition Policy Division, Office of Government-wide Acquisition Policy, Office of Acquisition Policy, Office of Government-wide Policy.

[FR Doc. 2018-00778 Filed 1-17-18; 8:45 am]

BILLING CODE 6820-EP-P